DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White HIV/AIDS Program Part C Early Intervention Services One-Time Noncompetitive Award to Ensure Continued HIV Primary Medical Care.

SUMMARY: To prevent a lapse in comprehensive primary care services for persons living with HIV/AIDS, HRSA will provide a one-time noncompetitive Part C funds award to the University of Alabama at Birmingham (UAB).

SUPPLEMENTARY INFORMATION: The amount of the award to ensure ongoing HIV medical services is $1,283,907.

Authority: Section 2651 of the Public Health Service Act, 42 U.S.C. 300ff-51

CFDA Number: 93.918.

Project period: The period of support for this award is 17 months, explained below in further detail.

Justification for the Exception To Competition: The Jefferson County Commission, Birmingham, AL (Grant Number: H76HA00098) announced the relinquishment of their Part C grant on January 31, 2013. To prevent a lapse in HIV medical care to the service area covered by that grant, grant funds of $1,283,907 are to be awarded to UAB to provide interim HIV medical care. UAB is a Ryan White HIV/AIDS Part C funded organization (H76HA00578), which offers HIV medical primary care. The Jefferson County Commission has identified UAB as a successor for the Part C grant. The $1,283,907 represents a proportional share of the last award to the Jefferson County Commission to cover 17 months of HIV medical primary care services until the service area is competed by July 1, 2014.

FOR FURTHER INFORMATION CONTACT: John Fanning, by email at jfanning@hrsa.gov, or by phone at 301-443-0493.

Dated: March 22, 2013.
Mary K. Wakefield,
Administrator.

[FR Doc. 2013-07189 Filed 3-27-13; 8:45 am]

BILLING CODE 4165-15-P